Proclamation 7786 of May 14, 2004

National Hurricane Preparedness Week, 2004

By the President of the United States of America

A Proclamation

Hurricanes are among nature's most powerful forces, bringing destructive winds, tornadoes, and floods from torrential rains and ocean storm surges. Each year, several hurricanes develop off American shores in the Atlantic Ocean, Caribbean Sea, and Gulf of Mexico. Some of these strike the United States coastline every year, causing numerous fatalities and costing billions of dollars in damage. Many Americans are vulnerable to the dangers of these storms.

In recent years, advances in how we predict and track these storms have improved preparedness and saved lives, but people living in hurricane-prone areas still must be prepared. The National Hurricane Center within the Department of Commerce's National Oceanic and Atmospheric Administration (NOAA) recommends developing a family disaster plan, creating a disaster supply kit, and staying aware of current weather situations.

While citizens make preparations to keep themselves safe, the Federal Government is maintaining our commitment to improve forecasts to provide advance warning and to coordinate effective emergency response. The Department of Homeland Security's Federal Emergency Management Agency is also working on a plan to better position disaster equipment and supplies, so Federal resources to support local emergency services arrive quickly.

While no policy can eliminate the threat that hurricanes pose to lives and property, cooperation among citizens and Federal, State, and local officials can reduce the dangers and provide a more effective response to these storms.

NOW, THEREFORE, I, GEORGE W. BUSH, President of the United States of America, by virtue of the authority vested in me by the Constitution and laws of the United States, do hereby proclaim May 16 through May 22, 2004, as National Hurricane Preparedness Week. I call upon government agencies, private organizations, schools, news media, and residents in hurricane-prone areas to share information about hurricane preparedness and response, and to implement steps to minimize storm damage and save lives. I also call upon Americans living in the coastal areas of our Nation to use this opportunity to learn more about how to protect themselves against the effects of hurricanes and tropical storms.

IN WITNESS WHEREOF, I have hereunto set my hand this fourteenth day of May, in the year of our Lord two thousand four, and of the Independence of the United States of America the two hundred and twenty-eighth.

B

[FR Doc. 04-11461

Filed 5-18-04; 8:45 am]

Billing code 3195-01-P